DEPARTMENT OF HEALTH AND HUMAN SERVICES

Administration for Children and Families

Delegation of Authority

Notice is hereby given that I have delegated to the Assistant Secretary for Children and Families, with the authority to redelegate to the Commissioner, Administration on Children, Youth and Families, which may be further redelegated, the authority vested in the Secretary of Health and Human Services to administer the Abstinence Education Program under Title V, section 510 of the Social Security Act, and as amended, hereafter.

This delegation supersedes all previous delegations of authority to administer the Abstinence Education Program under Title V, section 510 of the Social Security Act. Except as provided above, the existing delegations of authority to officials within the Health Resources and Services Administration concerning Title V of the Social Security Act are unaffected.

This delegation shall be exercised under the Department's existing delegation and policy on regulations, and under financial and administrative requirements applicable to all Administration for Children and Families authorities.

I have ratified any actions taken by the Assistant Secretary for Children and Families, or any other Administration for Children and Families officials, which, in effect, involved the exercise of this authority prior to the effective date of this delegation.

This delegation is effective immediately.

Dated: June 9, 2004.
Tommy G. Thompson,
Secretary.

[FR Doc. 04-13895 Filed 6-18-04; 8:45 am]

BILLING CODE 4184-01-M